Memorandum of August 7, 2020

Extension of the Use of the National Guard To Respond to COVID-19 and To Facilitate Economic Recovery

Memorandum for the Secretary of Defense [and] the Secretary of Homeland Security

By the authority vested in me as President by the Constitution and the laws of the United States of America, including the Robert T. Stafford Disaster Relief and Emergency Assistance Act, 42 U.S.C. 5121-5207 (the “Stafford Act”), and section 502 of title 32, United States Code, it is hereby ordered as follows:

Section 1. Policy. It continues to be the policy of the United States to foster close cooperation and mutual assistance between the Federal Government and the States and territories in the battle against the threat posed by the spread of COVID-19, especially as the United States transitions to a period of increased economic activity and recovery in those areas of the Nation where the threat posed by COVID-19 has been sufficiently mitigated. To date, activated National Guard forces around the country have provided critical support to Governors as the Governors work to address the needs of those populations within their respective States and territories especially vulnerable to the effects of COVID-19, including those in nursing homes, assisted living facilities, and other long-term care or congregate settings. Additionally, States and territories will need assistance in fighting COVID-19 hot spots as they emerge. Therefore, to continue to provide maximum support to States and territories as they make decisions about the responses required to address local conditions in their respective jurisdictions with respect to combatting the threat posed by COVID-19 and, where appropriate, facilitating their economic recovery, I am taking the actions set forth in sections 2 and 3 of this memorandum:

Sec. 2. Additional Twenty-Five Percent Federal Cost Share. To maximize assistance to the Governor of the State of Connecticut to facilitate Federal support with respect to the use of National Guard units under State control, I am directing the Federal Emergency Management Agency (FEMA) of the Department of Homeland Security to fund an additional 25 percent of the emergency assistance activities associated with preventing, mitigating, and responding to the threat to public health and safety posed by the virus that this State undertakes using its National Guard forces, as authorized by sections 403 (42 U.S.C. 5170b) and 503 (42 U.S.C. 5193) of the Stafford Act. This, in addition to the 75 percent Federal cost share established in my prior memorandum dated August 3, 2020, titled “Extension of the Use of the National Guard to Respond to COVID-19 and to Facilitate Economic Recovery,” shall provide the State of Connecticut with 100 percent Federal cost share.

Sec. 3. Additional Twenty-Five Percent Federal Cost Share Termination. The additional 25 percent Federal cost share for the State's use of National Guard forces for the State of Connecticut shall extend to, and shall be available for orders of any length authorizing duty through September 30, 2020. Such orders include duty necessary to comply with health protection protocols recommended by the Centers for Disease Control and Prevention of the Department of Health and Human Services or other health protection measures agreed to by the Department of Defense and FEMA.

Sec. 4. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of Defense is authorized and directed to publish this memorandum in the Federal Register.

THE WHITE HOUSE,

Washington, August 7, 2020

[FR Doc. 2020-17788

Filed 8-11-20; 11:15 am]

Billing code 5001-06-P